DEPARTMENT OF COMMERCE

National Oceanic and Atmospheric Administration

[I.D. 100104G]

Endangered and Threatened Species; Take of Anadromous Fish

AGENCY: National Marine Fisheries Service (NMFS), National Oceanic and Atmospheric Administration (NOAA), Commerce.

ACTION: Issuance of 21 scientific research permits and permit modifications.

SUMMARY: Between June 2, 2004 and July 30, 2004, NMFS' Northwest Region issued 21 permits and permit modifications allowing endangered and threatened species of Pacific salmon and steelhead to be taken for scientific research purposes under the Endangered Species Act (ESA) of 1973. The research actions and the species they affect are listed in the SUPPLEMENTARY INFORMATION section.

ADDRESSES: The permits, permit applications, and related documents are available for review during business hours by appointment at NMFS' Protected Resources Division, F/NWO3, 525 NE Oregon Street, Suite 500, Portland, OR 97232-2737 (ph: 503-230-5400, fax: 503-230-5435).

FOR FURTHER INFORMATION CONTACT: Garth Griffin, Portland, OR (phone: 503-231-2005, fax: 503-230-5435, e-mail: Garth.Griffin@noaa.gov).

SUPPLEMENTARY INFORMATION:

Authority

Scientific research permits are issued in accordance with Section 10(a)(1)(A) of the ESA (16 U.S.C. 1531 et seq.) and regulations governing listed fish and wildlife permits (50 CFR Parts 222-226). NMFS issues permits/modifications based on findings that such permits and modifications: (1) are applied for in good faith; (2) if granted and exercised, would not operate to the disadvantage of the listed species that are the subject of the permit; and (3) are consistent with the purposes and policies set forth in section 2 of the ESA. Authority to take listed species is subject to conditions set forth in the permits.

Species Covered in this Notice

The listed species/evolutionarily significant units (ESUs) covered by this notice are listed below and identified in the subsequent table by the numbers (in parentheses) that precede them.

(1) Threatened Puget Sound chinook salmon (Oncorhynchus tshawytscha)

(2) Threatened Lower Columbia River (LCR) chinook salmon (O. tshawytscha)

(3) Threatened Snake River (SR) spring/summer chinook salmon (O. tshawytscha)

(4) Threatened SR fall chinook salmon (O. tshawytscha)

(5) Endangered Upper Columbia River (UCR) spring-run chinook salmon (O. tshawytscha)

(6) Threatened Upper Willamette River (UWR) chinook salmon (O. tshawytscha)

(7) Threatened Hood Canal summer-run chum salmon (O. keta)

(8) Threatened Columbia River chum salmon (O. keta)

(9) Threatened LCR steelhead (O. mykiss) (O. keta)

(10) Threatened Middle Columbia River steelhead (O. keta)

(11) Threatened SR steelhead (O. keta)

(12) Endangered UCR steelhead (O. keta)

(13) Threatened Upper Willamette (UWR) Steelhead (O. keta)

(14) Threatened Southern Oregon/Northern California Coasts coho salmon (O. kisutch)

(15) Threatened (at the time of issuance) Oregon Coast coho salmon (O. kisutch)

(16) Endangered SR sockeye salmon (O. nerka)

Table 1. Scientific Research Permit Actions Affecting Threatened Pacific Salmon and Steelhead
Permit Number | Affected Species/ESUs | Permittee | FEDERAL REGISTER Notice of Application Receipt
1119 | 5, 12 | U.S. Fish and Wildlife Service | March 12, 2004 (69 FR 11841)
1127 | 3, 11 | Shoshone-Bannock Tribe (SBT) | March 12, 2004 (69 FR 11841)
1152 | 3 | Oregon Department of Fish and Wildlife | February 13, 2004 (69 FR 7205)
1156 | 1, 3, 4, 7, 10, 11, 15 | U.S. Environmental Protection Agency | April 9, 2004 (69 FR 18877)
1341 | 3 | SBT | April 9, 2004 (69 FR 18877)
1345 | 1 | Washington Department of Fish and Wildlife (WDFW) | April 9, 2004 (69 FR 18877)
1366 | 2, 3, 4, 5, 11, 12, 16 | Oregon Cooperative Fish and Wildlife Research Unit | March 12, 2004 (69 FR 11841)
1410 | 2, 3, 4, 5, 6, 8, 11, 14, 15 | Northwest Fisheries Science Center | February 13, 2004 (69 FR 7205)
1458 | 3 | Ducks Unlimited | February 13, 2004 (69 FR 7205)
1459 | 1 | Western Washington University | February 13, 2004 (69 FR 7205)
1460 | 1 | Port of Tacoma | February 13, 2004 (69 FR 7205)
1461 | 2, 3, 4, 5, 6, 8, 9, 11, 12, 13, 16 | U.S. Geological Survey (USGS) | February 13, 2004 (69 FR 7205)
1465 | 3, 4, 11, 16 | Idaho Department of Environmental Quality | March 12, 2004 (69 FR 11841)
1469 | 14 | Ecosystems Research Institute | March 12, 2004 (69 FR 11841)
1476 | 5, 12 | University of Washington | April 26, 2004 (69 FR 22488)
1477 | 2, 4 | Idaho Cooperative Fish and Wildlife Research Unit | April 26, 2004 (69 FR 22488)
1478 | 2, 8, 9 | USGS | April 26, 2004 (69 FR 22488)
1479 | 2, 9 | USGS | April 26, 2004 (69 FR 22488)
1480 | 5, 12 | USGS | April 26, 2004 (69 FR 22488)
1482 | 5, 12 | WDFW | April 9, 2004 (69 FR 18877)
1484 | 1, 2, 8, 9 | Washington Department of Natural Resources | April 9, 2004 (69 FR 18877)

Dated: October 8, 2004.
Marta Nammack,
Acting Division Chief, Endangered Species Division, Office of Protected Resources, National Marine Fisheries Service.

[FR Doc. 04-23065 Filed 10-13-04; 8:45 am]

BILLING CODE 3510-22-S